DEPARTMENT OF COMMERCE

Foreign-Trade Zones Board

[B-68-2012]

Foreign-Trade Zone 242—Boundary County, ID; Application for Subzone AREVA Enrichment Services, LLC; Bonneville County, ID

An application has been submitted to the Foreign-Trade Zones Board (the Board) by Boundary County, Idaho, grantee of FTZ 242, requesting special-purpose subzone status for the facility of AREVA Enrichment Services, LLC (AES), located in Bonneville County, Idaho. The application was submitted pursuant to the provisions of the Foreign-Trade Zones Act, as amended (19 U.S.C. 81a-81u), and the regulations of the Board (15 CFR part 400). It was formally docketed on September 4, 2012.

The proposed subzone is located along Highway 20, approximately 20 miles east-southeast of Idaho Falls, Idaho. A notification of proposed production activity has been submitted and is being published separately for public comment.

In accordance with the Board's regulations, Christopher Kemp of the FTZ Staff is designated examiner to review the application and make recommendations to the Board.

Public comment is invited from interested parties. Submissions shall be addressed to the Board's Executive Secretary at the address below. The closing period for their receipt is October 22, 2012. Rebuttal comments in response to material submitted during the foregoing period may be submitted during the subsequent 15-day period to November 5, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: September 4, 2012.
Andrew McGilvray,
Executive Secretary.

[FR Doc. 2012-22368 Filed 9-10-12; 8:45 am]

BILLING CODE 3510-DS-P